DEPARTMENT OF THE INTERIOR

Bureau of Land Management

[OR-957-00-1420-BJ: GP06-0190]

Filing of Plats of Survey: Oregon/Washington

AGENCY: U.S. Department of the Interior, Bureau of Land Management.

ACTION: Notice.

SUMMARY: The plat of survey of the following described lands was officially filed in the Oregon State office, Portland, Oregon, on May 15, 2006.

Willamette Meridian

Oregon

T. 24 S., R. 7 W., accepted March 7, 2006.

T. 29 S., R. 3 W., accepted March 7, 2006.

Washington

T. 24 N., R. 13 W., accepted April 18, 2006.

The plats of survey of the following described lands were officially filed in the Oregon State Office, Portland, Oregon, on June 22, 2006.

Willamette Meridian

Oregon

T. 1 S., R. 5 W., accepted April 18, 2006.

T. 7 S., R. 4 E., accepted April 25, 2006.

T. 3 S., R. 7 W., accepted April 25, 2006.

T. 17 S., R. 19 E., accepted June 2, 2006.

T. 3 N., R. 36 E., accepted June 2, 2006.

T. 13 S., R. 7 W., accepted June 2, 2006.

The plats of survey of the following described lands were officially filed in the Oregon State Office, Portland, Oregon, on August 1, 2006.

Willamette Meridian

Oregon

T. 4 S., R. 35 E., accepted June 20, 2006.

T. 7 S., R. 7 W., accepted June 22, 2006.

T. 1 S., R. 33 E., accepted July 6, 2006.

T. 34 S., R. 5 W., accepted July 11, 2006.

T. 35 S., R. 5 W., accepted July 11, 2006.

T. 1 N., R. 36 E., accepted July 11, 2006.

T. 1 S., R. 36 E., accepted July 11, 2006.

T. 30 N., R. 31 E., accepted July 11, 2006.

A copy of the plats may be obtained from the Public Room at the Oregon State Office, Bureau of Land Management, 333 S.W. 1st Avenue, Portland, Oregon 97204, upon required payment. A person or party who wishes to protest against a survey must file a notice that they wish to protest (at the above address) with the State Director, Bureau of Land Management, Portland, Oregon.

FOR FURTHER INFORMATION CONTACT: Chief, Branch of Geographic Sciences, Bureau of Land Management, (333 S.W. 1st Avenue) P.O. Box 2965, Portland, Oregon 97208.

Dated: September 18, 2006.
Patrick H. Geehan,
Acting, Branch of Lands and Minerals Resources.

[FR Doc. E6-15995 Filed 9-28-06; 8:45 am]

BILLING CODE 4310-33-P